DEPARTMENT OF TRANSPORTATION

Federal Aviation Administration

14 CFR Part 39

[Docket No. FAA-2005-22425; Directorate Identifier 2005-NM-066-AD; Amendment 39-14468; AD 2006-03-04]

RIN 2120-AA64

Airworthiness Directives; McDonnell Douglas Model DC-8-33, DC-8-51, DC-8-53, DC-8-55, DC-8F-54, DC-8F-55, DC-8-63, DC-8-62F, DC-8-63F, DC-8-71, DC-8-73, DC-8-71F, DC-8-72F, and DC-8-73F Airplanes

AGENCY: Federal Aviation Administration (FAA), Department of Transportation (DOT).

ACTION: Final rule.

SUMMARY: The FAA is adopting a new airworthiness directive (AD) for certain transport category airplanes, identified above.

This AD requires repetitive inspections for cracks of the doorjamb corners of the main cabin cargo door, and repair if necessary. This AD also provides an optional preventive modification that extends certain repetitive intervals. This AD results from reports of cracks in the fuselage skin at the corners of the doorjamb for the main cabin cargo door. We are issuing this AD to detect and correct fatigue cracks in the fuselage skin, which could result in rapid decompression of the airplane.

DATES: This AD becomes effective March 13, 2006.

The Director of the Federal Register approved the incorporation by reference of a certain publication listed in the AD as of March 13, 2006.

ADDRESSES: You may examine the AD docket on the Internet at http://dms.dot.gov or in person at the Docket Management Facility, U.S. Department of Transportation, 400 Seventh Street, SW., Nassif Building, room PL-401, Washington, DC.

Contact Boeing Commercial Airplanes, Long Beach Division, 3855 Lakewood Boulevard, Long Beach, California 90846, Attention: Data and Service Management, Dept. C1-L5A (D800-0024), for service information identified in this AD.

FOR FURTHER INFORMATION CONTACT: Jon Mowery, Aerospace Engineer, Airframe Branch, ANM-120L, FAA, Los Angeles Aircraft Certification Office, 3960 Paramount Boulevard, Lakewood, California 90712-4137; telephone (562) 627-5322; fax (562) 627-5210.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain McDonnell Douglas Model DC-8-33, DC-8-51, DC-8-53, DC-8-55, DC-8F-54, DC-8F-55, DC-8-63, DC-8-62F, DC-8-63F, DC-8-71, DC-8-73, DC-8-71F, DC-8-72F, and DC-8-73F airplanes. That NPRM was published in the Federal Register on September 16, 2005 (70 FR 54674). That NPRM proposed to require repetitive inspections for cracks of the doorjamb corners of the main cabin cargo door, and repair if necessary. That NPRM also proposed an optional preventive modification that extends certain repetitive intervals.

Comments

We provided the public the opportunity to participate in the development of this AD. We have considered the comment received.

Request to Refer to Inspections in Service Bulletin

The commenter requests that we change paragraph (f) of the NPRM to refer to the inspections in Paragraph 1.E., Table 1, of Boeing Service Bulletin DC8-53-079, Revision 01, dated June 26, 2002, rather than using the current wording of paragraph (f). As proposed in the NPRM, paragraph (f) states: “Do detailed, high frequency eddy current, and radiographic inspections, as applicable * * * ,” which the commenter states can be interpreted to require that all inspection types be accomplished for the main cabin cargo door jamb corners. The commenter states that referring to Paragraph 1.E., Table 1, would clarify the intent of the required inspection techniques. The commenter also notes that this change would be consistent with the wording in two other ADs related to door jamb corners: AD 2000-20-08, amendment 39-11919, for passenger and service door jambs; and AD 2005-18-07, amendment 39-14247, for the lower cargo door jamb.

We agree with the commenter. The requested change clarifies the intent of the inspection techniques, and is also consistent with the wording in similar ADs. We have revised paragraph (f) of the final rule to include this change. We have also deleted Note 1, which describes an inspection technique that is no longer mentioned in the AD.

Clarification of Paragraph (g)(2)

We have revised paragraph (g)(2) of this action to clarify that, for any corner where any crack is greater than 2.50 inches in length, the repair should be done using a method approved in accordance with the procedures specified in paragraph (k), rather than just in accordance with paragraph (k).

Clarification of Alternative Method of Compliance (AMOC) Paragraph

We have revised this action to clarify the appropriate procedure for notifying the principal inspector before using any approved AMOC on any airplane to which the AMOC applies.

Conclusion

We have carefully reviewed the available data, including the comment received, and determined that air safety and the public interest require adopting the AD with the changes described previously. We have determined that these changes will neither increase the economic burden on any operator nor increase the scope of the AD.

Costs of Compliance

There are about 225 airplanes of the affected design in the worldwide fleet. The following table provides the estimated costs for U.S. operators to comply with this AD. The average labor rate is $65 per hour.

Estimated Costs
Action | Work hours | Parts | Cost per airplane | Number of U.S.-registered airplanes | Fleet Cost
Inspection, per inspection cycle | 20 | None | $1,300, per inspection cycle | 166 | $215,800, per inspection cycle.
Optional preventive modification (per corner) | 80 | $26,881 to $30,913 (per corner, depending on airplane configuration) | $32,081 to $36,113 | Up to 166 | Up to between $5,325,446 and $5,994,758 (for one corner).

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-03-04 McDonnell Douglas: Amendment 39-14468. Docket No. FAA-2005-22425; Directorate Identifier 2005-NM-066-AD.

Effective Date

(a) This AD becomes effective March 13, 2006.

Affected ADs

(b) None.

Applicability

(c) This AD applies to McDonnell Douglas Model DC-8-33, DC-8-51, DC-8-53, DC-8-55, DC-8F-54, DC-8F-55, DC-8-63, DC-8-62F, DC-8-63F, DC-8-71, DC-8-73, DC-8-71F, DC-8-72F, and DC-8-73F airplanes, certificated in any category; as identified in Boeing Service Bulletin DC8-53-079, Revision 01, dated June 26, 2002.

Unsafe Condition

(d) This AD results from reports of cracks in the fuselage skin at the corners of the doorjamb for the main cabin cargo door. We are issuing this AD to detect and correct fatigue cracks in the fuselage skin, which could result in rapid decompression of the airplane.

Compliance

(e) You are responsible for having the actions required by this AD performed within the compliance times specified, unless the actions have already been done.

Inspections

(f) At the applicable time in paragraph (f)(1) or (f)(2) of this AD: Do the applicable inspections for cracking of the doorjamb corners of the main cabin cargo door in accordance with the Accomplishment Instructions of Boeing Service Bulletin DC8-53-079, Revision 01, dated June 26, 2002; the applicable inspections are specified in Table 1 of Paragraph 1.E. “Compliance” of the service bulletin. Except as provided by paragraphs (g) and (h) of this AD, repeat the inspections thereafter at intervals not to exceed the applicable intervals specified in Table 1 of Paragraph 1.E. “Compliance” of the service bulletin.

(1) For airplanes that have been converted from passenger to cargo under Amended Type Certificate Data Sheet 4A25, Notes 25 and 26, and McDonnell Douglas Supplemental Type Certificates SA3749WE and SA3403WE: Within 15,000 flight cycles after the conversion; or within 12 months after the effective date of this AD; whichever occurs later.

(2) For airplanes that have not been converted from passenger to cargo: Before the accumulation of 15,000 total flight cycles, or within 3,000 flight cycles after the effective date of this AD, whichever occurs later.

Corrective Actions and New Repetitive Intervals

(g) If any crack is found during any inspection required by this AD, before further flight: Do the applicable action in paragraph (g)(1) or (g)(2) of this AD in accordance with the Accomplishment Instructions of Boeing Service Bulletin DC8-53-079, Revision 01, dated June 26, 2002.

(1) For any corner where all cracks are 2.50 inches or less in length, install an external doubler in accordance with the service bulletin: Before the accumulation of 17,000 flight cycles after the installation, do the next inspection of that corner as specified in paragraph (f) of this AD. Repeat the inspections in paragraph (f) of this AD for that corner thereafter at intervals not to exceed 4,400 flight cycles.

(2) For any corner where any crack is greater than 2.50 inches in length, repair the crack using a method approved in accordance with the procedures specified in paragraph (k) of this AD.

Optional Preventive Modification

(h) Installing an external doubler on a corner in accordance with the Accomplishment Instructions of Boeing Service Bulletin DC8-53-079, Revision 01, dated June 26, 2002, terminates the repetitive inspection intervals of paragraph (f) of this AD for that corner. Before the accumulation of 17,000 flight cycles after the installation: Do the next inspection of that corner, as specified in paragraph (f) of this AD. Repeat the inspections in paragraph (f) of this AD for that corner thereafter at intervals not to exceed 4,400 flight cycles.

No Reporting Required

(i) Although the service bulletin referenced in this AD specifies to submit certain information to the manufacturer, this AD does not include that requirement.

Actions Accomplished In Accordance With Previous Issue of Service Bulletin

(j) Actions accomplished before the effective date of this AD in accordance with McDonnell Douglas Service Bulletin C8-53-079, dated January 31, 2001, are acceptable for compliance with the corresponding action in this AD.

Alternative Methods of Compliance (AMOCs)

(k)(1) The Manager, Los Angeles Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) An AMOC that provides an acceptable level of safety may be used for any repair required by this AD, if it is approved by an Authorized Representative for the Boeing Commercial Airplanes Delegation Option Authorization Organization who has been authorized by the Manager, Los Angeles ACO, to make those findings. For a repair method to be approved, the repair must meet the certification basis of the airplane and 14 CFR 25.571, Amendment 45, and the approval must specifically refer to this AD.

(4) Inspections required by this AD of specified areas of Principal Structural Element (PSE) 53.08.044 are acceptable for compliance with the applicable requirements of paragraphs (a) and (b) of AD 93-01-15, amendment 39-8469 (58 FR 5576, January 22, 1993). The remaining areas of the affected PSEs must be inspected and repaired as applicable, in accordance with AD 93-01-15.

Material Incorporated by Reference

(l) You must use Boeing Service Bulletin DC8-53-079, Revision 01, dated June 26, 2002, to perform the actions that are required by this AD, unless the AD specifies otherwise. The Director of the Federal Register approved the incorporation by reference of this document in accordance with 5 U.S.C. 552(a) and 1 CFR part 51. Contact Boeing Commercial Airplanes, Long Beach Division, 3855 Lakewood Boulevard, Long Beach, California 90846, Attention: Data and Service Management, Dept. C1-L5A (D800-0024), for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on January 24, 2006.
Ali Bahrami,
Manager, Transport Airplane Directorate, Aircraft Certification Service.

[FR Doc. 06-987 Filed 2-3-06; 8:45 am]

BILLING CODE 4910-13-P